DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting of the aforementioned committee:

Time and Date: 3:30 p.m.-4:30 p.m., May 17, 2010.

Place: Teleconference.

Status: Open to the public. The toll free dial in number is (800) 369-2094 and the passcode is 3518331. Teleconference access is limited only by availability of telephone ports. Registration and teleconference logon information is also available at http://www.cdc.gov/hicpac/.

Purpose: The Committee is charged with providing advice and guidance to the Secretary, Department of Health and Human Services; the Director, CDC; and the Director, National Center for Emerging and Zoonotic Infectious Diseases (NCEZID), regarding the practice of hospital infection control and strategies for surveillance, prevention, and control of healthcare-associated infections (e.g., nosocomial infections), antimicrobial resistance, and related events in settings where healthcare is provided, including hospitals, ambulatory and long-term care facilities, and home health agencies. The committee shall also advise CDC on periodic updating of existing guidelines, development of new guidelines, guideline evaluation, and other policy statements regarding prevention of healthcare-associated infections and healthcare-related conditions.

Matters To Be Discussed: The agenda will include a follow up discussion on the draft Guidelines for the Prevention of Intravascular Catheter-Related Infections.

Agenda items are subject to change as priorities dictate.

For More Information Contact: Michelle W. King, HICPAC, Division of Healthcare Quality Promotion, NCEZID, CDC, l600 Clifton Road, NE., Mailstop A-07, Atlanta, Georgia 30333, Telephone: (404) 639-2936, E-mail: HICPAC@cdc.gov.

The Director, Management Analysis and Services Office, has been delegated the authority to sign Federal Register notices pertaining to announcements of meetings and other committee management activities, for both CDC and the Agency for Toxic Substance and Disease Registry.

Dated: April 26, 2010.
Elaine L. Baker,
Director, Management Analysis and Services Office, Centers for Disease Control and Prevention.

[FR Doc. 2010-10090 Filed 4-29-10; 8:45 am]

BILLING CODE 4163-18-P